DEPARTMENT OF COMMERCE

National Oceanic and Atmospheric Administration

[I.D. 091800D]

Caribbean Fishery Management Council; Public Meetings

AGENCY: National Marine Fisheries Service (NMFS), National Oceanic and Atmospheric Administration (NOAA), Commerce.

ACTION: Notice of public meetings.

SUMMARY: The Caribbean Fishery Management Council’s Scientific and Statistical Committee (SSC), Advisory Panel (AP), and Habitat Advisory Panel (HAP), will hold meetings.

DATES: The first meeting will be held October 10, 2000; the second, October 11, 2000; and, the third, October 13, 2000; all three will last from l0 a.m. to 4 p.m.

ADDRESSES: All three meetings will be held at the Travelodge Hotel, Isla Verde Avenue, Isla Verde, Carolina, Puerto Rico.

Council address: Caribbean Fishery Management Council, 268 Munoz Rivera Avenue, Suite 1108, San Juan, PR 009l8-2577.

FOR FURTHER INFORMATION CONTACT: Telephone: 787-766-5926.

SUPPLEMENTARY INFORMATION: The agenda items discussed by the SSC, AP, and HAP will be as follows:

SSC—Tuesday, October 10, 2000, from 10-4 p.m.

-Dolphin/Wahoo Fishery Management Plan (FMP)

-Queen Conch Amendment Update

-Sustainable Fisheries Act

-Other Business

AP—Wednesday, October 11, 2000, from l0-4 p.m.

-Dolphin/Wahoo FMP

-Conch FMP Amendment

-Other Business

-Simultaneous interpretation (Spanish-English) will be available during the AP meeting.

HAP—Friday, October 13, 2000, from 10-4 p.m.

-Essential Fish Habitat

-Coral FMP

-Task Force Report

These meetings are open to the public, and will be conducted in English. Fishers and other interested persons are invited to attend and participate with oral or written statements regarding agenda issues.

Although non-emergency issues not contained in this agenda may come before this Council for discussion, in accordance with the Magnuson-Stevens Fishery Conservation and Management Act, those issues may not be the subject of formal Council action during this meeting. Action will be restricted to those issues specifically listed in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Mr. Miguel A. Rolon, 787-766-5926 at least 5 days prior to the meeting date.

Dated: September 19, 2000.
Richard W. Surdi,
Acting Director, Office of Sustainable Fisheries, National Marine Fisheries Service.

[FR Doc. 00-24456 Filed 9-21-00; 8:45 am]

BILLING CODE 3510-22-S